DEPARTMENT OF LABOR

Mine Safety and Health Administration

Affirmative Decisions on Petitions for Modification Granted in Whole or in Part

AGENCY: Mine Safety and Health Administration, Labor.

ACTION: Notice.

SUMMARY: Section 101(c) of the Federal Mine Safety and Health Act of 1977 and 30 CFR part 44 govern the application, processing, and disposition of petitions for modification. This Federal Register Notice notifies the public that it has investigated and issued a final decision on certain mine operator petitions to modify a safety standard.

ADDRESSES: Copies of the final decisions are posted on MSHA's Web Site at http://www.msha.gov/indexes/petition.htm. The public may inspect the petitions and final decisions during normal business hours in MSHA's Office of Standards, Regulations and Variances, 1100 Wilson Boulevard, Room 2349, Arlington, Virginia 22209. All visitors must first stop at the receptionist desk on the 21st Floor to sign-in.

FOR FURTHER INFORMATION CONTACT: Roslyn B. Fontaine, Acting Director, Office of Standards, Regulations and Variances at 202-693-9475 (Voice), fontaine.roslyn@dol.gov (E-mail), or 202-693-9441 (Telefax), or Barbara Barron at 202-693-9447 (Voice), barron.barbara@dol.gov (E-mail), or 202-693-9441 (Telefax). [These are not toll-free numbers].

SUPPLEMENTARY INFORMATION:

I. Introduction

Under section 101 of the Federal Mine Safety and Health Act of 1977, a mine operator may petition and the Secretary of Labor (Secretary) may modify the application of a mandatory safety standard to that mine if the Secretary determines that: (1) An alternative method exists that will guarantee no less protection for the miners affected than that provided by the standard; or (2) that the application of the standard will result in a diminution of safety to the affected miners.

MSHA bases the final decision on the petitioner's statements, any comments and information submitted by interested persons, and a field investigation of the conditions at the mine. In some instances, MSHA may approve a petition for modification on the condition that the mine operator complies with other requirements noted in the decision.

II. Granted Petitions for Modification

On the basis of the findings of MSHA's investigation, and as designee of the Secretary, MSHA has granted or partially granted the following petitions for modification:

• Docket Number: M-2008-021-C.

FR Notice: 73 FR 31147 (May 30, 2008).

Petitioner: Rosebud Mining Company, 301 Market Street, Kittanning, Pennsylvania 16201.

Mine: Rossmoyne No. 1 Mine, MSHA I.D. No. 36-09075, located in Indiana County, Pennsylvania.

Regulation Affected: 30 CFR 75.500(b), (c), and (d) (Permissible electric equipment).

• Docket Number: M-2008-022-C.

FR Notice: 73 FR 31148 (May 30, 2008).

Petitioner: Rosebud Mining Company, 301 Market Street, Kittanning, Pennsylvania 16201.

Mine: Darmac No. 2 Mine, MSHA I.D. No. 36-08135, located in Armstrong County, Pennsylvania.

Regulation Affected: 30 CFR 75.500(b), (c), and (d) (Permissible electric equipment).

• Docket Number: M-2008-024-C.

FR Notice: 73 FR 31149 (May 30, 2008).

Petitioner: Rosebud Mining Company, 301 Market Street, Kittanning, Pennsylvania 16201.

Mine: T.J.S. No. 6 Mine, MSHA I.D. No. 36-09464, located in Armstrong County, Pennsylvania.

Regulation Affected: 30 CFR 75.500(b), (c), and (d) (Permissible electric equipment).

• Docket Number: M-2009-004-C.

FR Notice: 74 FR 23747 (May 20, 2009.)

Petitioner: Cumberland Coal Resource LP, Three Gateway Center, 401 Liberty Avenue, Suite 1340, Pittsburgh, Pennsylvania 15222.

Mine: Cumberland Mine, MSHA I.D. No. 36-05018, located in Greene County, Pennsylvania.

Regulation Affected: 30 CFR 75.1700 (Oil and gas wells).

• Docket Number: M-2009-010-C.

FR Notice: 74 FR 23746 (May 20, 2009).

Petitioner: Frasure Creek Mining, LLC, P.O. Box 142, Justice, West Virginia 24851.

Mine: Deep Mine No. 15, MSHA I.D. No. 46-09209, located in Fayette County, West Virginia.

Regulation Affected: 30 CFR 75.1101-1(b) (Deluge-type water spray systems).

• Docket Number: M-2009-020-C.

FR Notice: 74 FR 67913 (December 21, 2009).

Petitioner: Consolidation Coal Company, 1800 Washington Road, Pittsburgh, Pennsylvania 15241.

Mine: Blacksville No. 2 Mine, MSHA I.D. No. 46-01968, located in Monongalia County, West Virginia.

Regulation Affected: 30 CFR 75.1700 (Oil and gas wells).

• Docket Number: M-2009-023-C.

FR Notice: 74 FR 67915 (December 21, 2009).

Petitioner: Blue Mountain Energy, Inc., 3607 County Road #65, Rangely, Colorado 81648.

Mine: Deserado Mine, MSHA I.D. No. 05-03505, located in Rio Blanco County, Colorado.

Regulation Affected: 30 CFR 75.380(d)(4)(iv) (Escapeway; bituminous and lignite mines).

• Docket Number: M-2009-037-C.

FR Notice: 74 FR 63413 (December 3, 2009).

Petitioner: Signal Peak Energy, 100 Portal Drive, Roundup, Montana 59072.

Mine: Bull Mountain Mine No. 1, Mine No. 1, MSHA I.D. No. 24-01950, located in Musselshell County, Montana.

Regulation Affected: 30 CFR 75.1909(b)(6) (Nonpermissible diesel-powered equipment; design and performance requirements).

• Docket Number: M-2009-041-C.

FR Notice: 74 FR 63415 (December 3, 2009).

Petitioner: ICG Illinois, LLC, 8100 East Main Street, Williamsville, Illinois 62693.

Mine: Viper Mine, MSHA I.D. No. 11-02664, located in Sangamon County, Illinois.

Regulation Affected: 30 CFR 75.1101-1(b) (Deluge-type water spray systems).

• Docket Number: M-2009-043-C.

FR Notice: 74 FR 67923 (December 21, 2009).

Petitioner: Nelson Brothers, LLC, 707 Virginia Street, East, 901 Chase Tower, P.O. Box 913, Charleston, West Virginia 25323.

Mine: Alex Energy, Inc., Edwight Surface Mine, MSHA I.D. No. 46-08977, located in Raleigh County, West Virginia; Alex Energy, Inc., No. 1 Surface Mine, MSHA I.D. No. 46-06870, located in Nicholas County, West Virginia; Elk Run Coal Company, Republic Energy Mine, MSHA I.D. No. 46-07938, located in Fayette County, West Virginia; Elk Run Coal Company, Black Castle Mining Company Mine, MSHA I.D. No. 46-07938 and Progress Coal, Twilight Mtr. Surface Mine, MSHA I.D. No. 46-08645, located in Boone County, West Virginia.

Regulation Affected: 30 CFR 77.1302(k) (Vehicles used to transport explosives).

• Docket Number: M-2009-055-C.

FR Notice: 75 FR 3259 (January 10, 2010).

Petitioner: Prairie State Generating Company, LLC, 4274 County Highway 12, Marissa, Illinois 62257.

Mine: Lively Grove Mine, MSHA I.D. No. 11-03193, located in Washington County, Illinois.

Regulation Affected: 30 CFR 75.503 (Permissible electric face equipment; maintenance) and 30 CFR 18.35 (Portable (trailing) cables and cords).

• Docket Number: M-2010-001-C.

FR Notice: 75 FR 12797 (March 17, 2010).

Petitioner: Lone Mountain Processing, Inc., Drawer C, St. Charles, Virginia 24282.

Mine: Huff Creek No. 1 Mine, MSHA I.D. No. 15-17234, located in Harlan County, Kentucky.

Regulation Affected: 30 CFR 75.364(b)(1) (Weekly examination).

• Docket Number: M-2010-002-C.

FR Notice: 75 FR 12797 (March 17, 2010).

Petitioner: Bridger Coal Company, P.O. Box 68, Point of Rocks, Wyoming 82942

Mine: Bridger Underground Coal Mine, MSHA I.D. No. 48-01646, located in Sweetwater County, Wyoming.

Regulation Affected: 30 CFR 75.1700 (Oil and gas wells).

• Docket Number: M-2010-013-C.

FR Notice: 75 FR 16187 (March 31, 2010).

Petitioner: RoxCoal, Inc., 1576 Stoystown Road, P.O. Box 149, Friedens, Pennsylvania 15541.

Mine: Roytown Deep Mine, MSHA I.D. No. 36-09260 and Quecreek #1 Mine, MSHA I.D. No. 36-08746, located in Somerset County, Pennsylvania.

Regulation Affected: 30 CFR 75.1101-1(b) (Deluge-type water spray systems).

• Docket Number: M-2010-015-C.

FR Notice: 75 FR 16188 (March 31, 2010).

Petitioner: Sunrise Coal, LLC, 1183 East Canvasback Drive, Terre Haute, Indiana 47802

Mine: Carlisle Mine, MSHA I.D. No. 12-02349, located in Sullivan County, Indiana.

Regulation Affected: 30 CFR 75.1700 (Oil and gas wells).

• Docket Number: M-2010-016-C.

FR Notice: 75 FR 16188 (March 31, 2010).

Petitioner: Lone Mountain Processing, Inc., Drawer C, St. Charles, Virginia 24282.

Mine: Darby Fork No. 1 Mine, MSHA I.D. No. 15-02263, Huff Creek No. 1 Mine, MSHA I.D. No. 15-17234, and Clover Fork No. 1 Mine, MSHA I.D. No. 15-18647, located in Harlan County, Kentucky.

Regulation Affected: 30 CFR 75.208 (Warning devices).

• Docket Number: M-2010-020-C.

FR Notice: 75 FR 29784 (May 27, 2010).

Petitioner: Wolf Run Mining Company, Route 3, Box 146, Philippi, West Virginia 26416.

Mine: Sentinel Mine, MSHA I.D. No. 46-04168, located in Barbour County, West Virginia.

Regulation Affected: 30 CFR 75.1909(b)(6) (Nonpermissible diesel-powered equipment; design and performance requirements).

• Docket Number: M-2010-023-C.

FR Notice: 75 FR 29784 (May 27, 2010).

Petitioner: Rosebud Mining Company, 301 Market Street, Kittanning, Pennsylvania 16201.

Mine: Tracy Lynne Mine, MSHA I.D. No. 36-08603 and Clementine Mine, MSHA I.D. No. 36-08862, located in Armstrong County, Pennsylvania; Penfield Mine, MSHA I.D. No. 36-09355, located in Clearfield County, Pennsylvania; Mine 78, MSHA I.D. No. 36-09371, located in Somerset County, Pennsylvania; and Heilwood Mine, MSHA I.D. No. 36-09407, Lowry Mine, MSHA I.D. No. 36-09287, Tom's Run Mine, MSHA I.D. No. 36-08525 and Cherry Tree Mine, MSHA I.D. No. 36-09224, located in Indiana County, Pennsylvania.

Regulation Affected: 30 CFR 75.503 (Permissible electric face equipment; maintenance) and 30 CFR 18.35 (Portable (trailing) cables and cords).

• Docket Number: M-2010-032-C.

FR Notice: 75 FR 49537 (August 13, 2010).

Petitioner: M-Class Mining, LLC, P.O. Box 227, Johnston City, Illinois 62951.

Mine: MC #1 Mine, MSHA I.D. No. 11-03189, located in Franklin County, Illinois.

Regulation Affected: 30 CFR 75.1700 (Oil and gas wells).

Dated: June 3, 2011.
Patricia W. Silvey,
Certifying Officer.

[FR Doc. 2011-14214 Filed 6-8-11; 8:45 am]

BILLING CODE 4510-43-P